DEPARTMENT OF COMMERCE

National Oceanic and Atmospheric Administration

[I.D. 101206A]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject exempted fishing permit (EFP) application contains all the required information and warrants further consideration. The Assistant Regional Administrator has also made a preliminary determination that the activities authorized under the EFP would be consistent with the goals and objectives of the Northeast (NE) Multispecies Fishery Management Plan (FMP). Based on preliminary review of this project, a Categorical Exclusion (CE) from requirements to prepare either an Environmental Impact Statement (EIS) or an Environmental Assessment (EA) under the National Environmental Policy Act (NEPA) appears to be justified. However, further review and consultation may be necessary before a final determination is made to issue the EFP. Therefore, NMFS announces that the Assistant Regional Administrator proposes to recommend that an EFP be issued that would allow two commercial fishing vessels to conduct fishing operations that are otherwise restricted by the regulations governing the fisheries of the Northeastern United States. The EFP, which would enable the applicants to investigate the feasibility of using a trawl net with buoyant ground cables and a buoyant sweep to reduce seabed contact and improve species selectivity, would allow for exemptions from the FMP as follows: Gulf of Maine (GOM) Rolling Closure Areas II, III, IV, and V for two vessels; and an exemption from the days-at-sea (DAS) effort control requirements for one vessel.

Regulations under the Magnuson-Stevens Fishery Conservation and Management Act require publication of this notification to provide interested parties the opportunity to comment on applications for proposed EFPs.

DATES: Comments must be received on or before November 1, 2006.

ADDRESSES: Written comments should be sent to Patricia A. Kurkul, Regional Administrator, NMFS, Northeast Regional Office, 1 Blackburn Drive, Gloucester, MA 01930. Mark the outside of the envelope “Comments on the Buoyant Ground Cables Study.” Comments may also be sent via facsimile (fax) to (978) 281-9135, or submitted via e-mail to: DA6-213@noaa.gov.

FOR FURTHER INFORMATION CONTACT: Mark Grant, Fishery Management Specialist, (978) 281-9145, fax (978) 281-9135.

SUPPLEMENTARY INFORMATION: A complete application for an EFP was submitted on August 21, 2006, by Kelo Pinkham of the F/V Jeanne C for a joint project with Dana Morse, of Maine Sea Grant, that is funded by the Northeast Consortium (NEC). The primary goal of this research is to develop and test a trawl net with buoyant ground cables and a buoyant sweep to reduce seabed contact and increase species selectivity. The intent of the applicants is to demonstrate that the experimental net, if successful, could potentially be suitable as an alternate gear for vessels fishing in areas requiring a haddock separator trawl and/or fishing areas of hard bottom with the use of mid-water doors.

The project would be conducted during the fall of 2006 and spring of 2007 and would include flume tank trials and 25 days of at-sea trials. An experimental otter trawl net, which would have floats incorporated along both the ground cables and the sweep, as well as drop chains integrated along the sweep, would first be constructed and flume tested. After the flume trials, one vessel would conduct 5 days of at-sea research using video cameras and a net-mind system to tune the performance of the net. A net-mind system is a net monitoring system that enables monitoring and managing the performance of the trawl. During these first 5 at-sea days, the net would have an open codend. After determining the best configuration of ground cables, floats, drop chains, and sweep position using the cameras and net-mind system, the experimental net would be transferred to the second vessel for fishing trials. This second vessel would conduct an additional 20 at-sea days of research, during which the experimental net would be compared with a standard design otter trawl net as a control during experimental fishing. During these comparative fishing trials, this single vessel would conduct four 2-hour tows per day, alternating each tow between fishing the experimental net and fishing the control net. Cameras mounted on the nets and on tow sleds would be used to monitor the seabed before and after towing, as well as net performance and fish behavior in the mouth of the net.

All fish caught would be weighed and as many fish as possible would be measured. All undersized fish, and fish that cannot legally be retained, would be returned to the sea as quickly as practicable after measurement and examination. The overall catch estimates expected for this project can be found in Table 1. The applicants anticipate that a total of 20,000 lb (9,072 kg) of haddock and pollock (combined), the two target species, would be harvested throughout the course of the study, along with 14,000 lb (6,350 kg) of non-targeted catch and discards, including 8,000 lb (3,629 kg) of GOM cod. The estimated cod catch is 66 percent of the current daily possession limit of 600 lb (272 kg) (50 percent of the daily limit of 800 lb (363 kg ) proposed in Framework Adjustment 42) for the proposed number of DAS. All legal-sized fish, within the possession limit, would be sold, with the proceeds returned to the NEC for the purpose of enhancing future research.

Table 1: Estimated Targeted Catch, Non-Targeted Catch and Discard by Species
Species | Targeted Catch | Non-Targeted Catch and Discards
Haddock | 10,000 lb (4,536 kg) | 0
Pollock | 10,000 lb (4,536 kg) | 0
Cod | 0 | 8,000 lb (3,629 kg)
Gray Sole | 0 | 2,000 lb (907 kg)
American Plaice | 0 | 2,000 lb (907 kg)
Monkfish | 0 | 2,000 lb (907 kg)

All at-sea research would be conducted from two fishing vessels, each of which would be fishing in a different area. This EFP would cover the F/V Ocean Reporter (permit # 221596, O.N. 694848) and the F/V Jeanne C (permit # 230524, O.N. 610415). The F/V Ocean Reporter would conduct the 5 days of at-sea video and gear tuning work in the area between the western border of the Western GOM Closure Area (42°15′ N. lat., 70°15′ W. long.; and 43°15′ N. lat., 70°15′ W. long.) and the shore. The F/V Jeanne C would conduct the 20 days of at-sea experimental fishing in an area northeast of the Western GOM Closure Area and northwest of the Cashes Ledge Closure Area (see Table 2). Both vessels would fish exclusively outside the Western GOM Closed Area.

Table 2: Coordinates for Experimental Fishing Area by F/V Jeanne C
Point | N. Lat. | W. Long.
1 | 43°38′ | 69°40′
2 | 43°38′ | 69°21′
3 | 43°20′ | 69°40′
4 | 43°20′ | 69°21′
5 | 43°38′ | 69°40′

The applicants have asked for an exemption to the regulations at 50 CFR 648.81(f)(1)(ii) through (v), GOM Rolling Closure Areas II, III, IV, and V, for both the F/V Ocean Reporter and F/V Jeanne C (for 5 DAS and 20 DAS, respectively) due to a belief that there will be a better mixture of flounders, pollock, haddock, and cod for testing the experimental gear present in the waters of the western GOM during these seasonal closures. Operation during these seasonal closures would also increase the availability of the commercial vessels to work with scientists on the project because these coastal day boats are unable to conduct normal commercial fishing operations during these seasonal closures.

The applicants have also requested an exemption to the DAS regulations at 50 CFR 648.82(a) for the F/V Ocean Reporter while conducting the 5 at-sea days of video and gear tuning work because the researchers would tow the nets with the codend open. With the exception of a small number of fish that could be gilled by the net mesh, no fish would be removed from the water during these 5 at-sea days of video and gear tuning work. During the 20 at-sea days of comparative fishing trials, the F/V Jeanne C would use A DAS and would be subject to all day and trip possession limits.

The applicants may request minor modifications and extensions to the EFP throughout the year. EFP modifications and extensions may be granted without further notice if they are deemed essential to facilitate completion of the proposed research and have minimal impacts that do not change the scope or impact of the initially approved EFP request.

Authority: 16 U.S.C. 1801 et seq.

Dated: October 12, 2006.
James P. Burgess,
Acting Director, Office of Sustainable Fisheries, National Marine Fisheries Service.

[FR Doc. E6-17177 Filed 10-16-06; 8:45 am]

BILLING CODE 3510-22-S